DEPARTMENT OF COMMERCE

National Oceanic and Atmospheric Administration

RIN 0648-XA847

Fisheries of the Caribbean, Gulf of Mexico, and South Atlantic; Reef Fish Fishery of the Gulf of Mexico; Exempted Fishing Permit

AGENCY: National Marine Fisheries Service (NMFS), National Oceanic and Atmospheric Administration (NOAA), Commerce.

ACTION: Notice of receipt of an application for an exempted fishing permit; request for comments.

SUMMARY: NMFS announces the receipt of an application for an exempted fishing permit (EFP) from the Louisiana Department of Wildlife and Fisheries (LDWF). If granted, the EFP would authorize the applicant to collect and retain red snapper that would otherwise be prohibited from possession and retention. This study, to be conducted in the exclusive economic zone (EEZ) of the Gulf of Mexico (Gulf) off Louisiana, is intended to better document the age structure and life history of fish associated with offshore platforms and artificial reefs in Louisiana coastal waters.

DATES: Comments must be received no later than 5 p.m., eastern time, on February 21, 2012.

ADDRESSES: You may submit comments on the application by any of the following methods:

• Email: Steve.Branstetter@noaa.gov. Include in the subject line of the email comment the following document identifier: “LDWF_EFP”.

• Mail: Steve Branstetter, Southeast Regional Office, NMFS, 263 13th Avenue South, St. Petersburg, FL 33701.

The application and related documents are available for review upon written request to any of the above addresses.

FOR FURTHER INFORMATION CONTACT: Steve Branstetter, (727) 824-5305; email: Steve.Branstetter@noaa.gov.

SUPPLEMENTARY INFORMATION: The EFP is requested under the authority of the Magnuson-Stevens Fishery Conservation and Management Act (16 U.S.C. 1801 et seq.), and regulations at 50 CFR 600.745(b) concerning exempted fishing.

The described research is part of a new research program by LDWF. The research is intended to involve recreational fishermen in the collection of fundamental biological information on Gulf red snapper. The proposed collection for scientific research involves activities that could otherwise be prohibited by regulations at 50 CFR part 622, as they pertain to reef fish managed by the Gulf of Mexico Fishery Management Council (Council). The applicant requires authorization through the EFP to collect these Council-managed species that may be taken as part of the normal fishing activities of the recreational sector of the Gulf reef fish fishery. LDWF is requesting that selected participants in as many as seven Louisiana recreational fishing tournaments during the summer of 2012 be allowed to bring red snapper to port. The EFP would only be applicable if the 2012 recreational red snapper season has closed because the recreational quota was projected to be met. These fish would be turned over to LDWF personnel, and sampled for otoliths and gonads. LDWF would be responsible for providing all data collected under the EFP to NMFS for use in the next red snapper stock assessment.

The goal of the research is to provide a more robust data base on Gulf red snapper for the next stock assessment. The EFP, if approved, would authorize the take of as many as 1,400 federally-managed red snapper from July 1, 2012, through September 30, 2012. Such fish, collected as biological samples, would not be subject to seasonal closures or recreational bag limits.

NMFS finds this application warrants further consideration. Possible conditions the agency may impose on this permit, if it is indeed granted, include but are not limited to, a prohibition of conducting research within marine protected areas, marine sanctuaries, or special management zones, without additional authorization. A report on the research would be due at the end of the collection period, to be submitted to NMFS and reviewed by the Council.

A final decision on issuance of the EFP will depend on NMFS's review of public comments received on the application, consultations with the affected states, the Council, and the U.S. Coast Guard, as well as a determination that it is consistent with all applicable laws.

Authority: 16 U.S.C. 1801 et seq.

Dated: January 17, 2012.
Steven Thur,
Acting Director, Office of Sustainable Fisheries, National Marine Fisheries Service.

[FR Doc. 2012-1145 Filed 1-19-12; 8:45 am]

BILLING CODE 3510-22-P